FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 3, 2000.

A. Federal Reserve Bank of New York (Betsy Buttrill White, Senior Vice President), 33 Liberty Street, New York, New York 10045-0001:

1. Caixa Geral De Depositos, S.A., Lisbon, Portugal; to retain approximately 8.8 percent of the outstanding voting shares of Banco Commercial Portugues, S.A., Oporto, Portugal and thereby indirectly acquire shares of BPABank, National Association, Newark, New Jersey.

B. Federal Reserve Bank of San Francisco (Maria Villanueva, Consumer Regulation Group) 101 Market Street, San Francisco, California 94105-1579:

1. Wells Fargo & Company, San Francisco, California; to acquire 100 percent of the voting shares of First Security Corporation, Salt Lake City, Utah, and thereby indirectly acquire voting shares of First Security Bank, N.A., Ogden, Utah; First Security Bank of New Mexico, N.A, Albuquerque, New Mexico; First Security Bank of Nevada, Las Vegas, Nevada; and First Security Bank of California, N.A., West Covina, California.

In connection with this application, Wells Fargo proposes to acquire the nonbanking subsidiaries of First Security Corporation, including First Security Mortgage Company, Salt Lake City, Utah, and thereby engage in lending activities pursuant to § 225.28(b)(1) of Regulation Y; First Security Leasing Company and Bankers Equipment Alliance, Inc., both of Salt Lake City, Utah, and thereby engage in leasing activities pursuant to § 225.28(b)(3) of Regulation Y; First Security Investment Services, Inc., and First Security Investment Management Inc., both of Salt Lake City, Utah, and thereby engage in investment and financial advisory activities pursuant to § 225.28(b)(6) of Regulation Y; First Security Specialized Services, Inc., Salt Lake City, Utah, and thereby engage in providing financial advisory and management consulting services pursuant to §§ 225.28(b)(6) and (9) of Regulation Y; First Security Life Insurance Company of Arizona, Phoenix, Arizona, and thereby engage in reinsuring credit-related insurance pursuant to § 225.28(b)(11)(i) of Regulation Y; and First Security Processing Services, Inc., Salt Lake City, Utah, and thereby engage in providing bankcard and ATM transaction services for other financial institutions pursuant to § 225.28(b)(14) of Regulation Y.

Board of Governors of the Federal Reserve System, July 14, 2000.
Jennifer J. Johnson,
Secretary of the Board.

[FR Doc. 00-18323 Filed 7-19-00; 8:45 am]

BILLING CODE 6210-01-P